DEPARTMENT OF DEFENSE

Office of the Secretary

[Docket ID: DoD-2020-OS-0053]

Submission for OMB Review; Comment Request

AGENCY: Office of the Under Secretary of Defense for Personnel and Readiness, Department of Defense (DoD).

ACTION: 30-Day information collection notice.

SUMMARY: The DoD has submitted to OMB for clearance the following proposal for collection of information under the provisions of the Paperwork Reduction Act.

DATES: Consideration will be given to all comments received by August 13, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Application for a Review by the Physical Disability Board of Review; DD Form 294; OMB Control Number 0704-0453.

Type of Request: Regular.

Number of Respondents: 240.

Responses per Respondent: 1.

Annual Responses: 240.

Average Burden per Response: 45 minutes.

Annual Burden Hours: 180 hours.

Needs and Uses: The Fiscal Year 2008 National Defense Authorization Act amended Title 10, United States Code by adding Section 1554a. This provision of law directs the Secretary of Defense to establish a panel to review the disability determinations of individuals who were separated from the armed forces during the period beginning September 11, 2001 and ending on December 31, 2009 due to unfitness for duty due to a medical condition with a disability rating of 20 percent disabled or less; and were found to be not eligible for retirement. On June 27, 2008, the Department of Defense published DODI 6040.44, which provides the guidance for this process.

The DD Form 294 is the means by which former Service members that were medically separated due to a medical condition with a disability rating of 20 percent or less can request a review of their combined disability rating. Service members are responding to the information collection to ensure they receive an accurate and fair review of their disability rating. The DD Form 294, “Application for Review by the Physical Disability Board of Review (PDBR) of the Rating Awarded Accompanying a Medical Separation from the Armed Forces of the United States” is designed to appropriately collect the information necessary to retrieve the medical separation and the Department of Veterans Affairs records and correct military personnel and pay records.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: July 7, 2021.
Aaron T. Siegel,
Alternate OSD Federal Register Liaison Officer, Department of Defense.

[FR Doc. 2021-14910 Filed 7-13-21; 8:45 am]

BILLING CODE 5001-06-P